NATIONAL SCIENCE FOUNDATION

Committee Management; Notice of Establishment

The Deputy Director of the National Science Foundation has determined that the ten committees listed below are necessary and in the public interest in connection with the performance of duties imposed upon the National Science Foundation (NSF), by 42 U.S.C. 1861 et seq. This determination follows consultation with the Committee Management Secretariat, General Services Administration.

Name of Committee: Proposal Review Panel for Biological Infrastructure (10743).

Purpose: Advise NSF on the merit of proposals requesting financial support of research and research-related activities under the purview of the Division of Biological Infrastructure.

Name of Committee: Proposal Review Panel for Environmental Biology (10744).

Purpose: Advise NSF on the merits of proposals requesting financial support of research and research-related activities under the purview of the Division of Environmental Biology.

Name of Committee: Proposal Review Panel for Integrative Biology and Neuroscience (10745).

Purpose: Advise NSF on the merit of proposals requesting financial support of research and research-related activities under the purview of the Division of Integrative Biology and Neuroscience.

Name of Committee: Proposal Review Panel Molecular and Cellular Biosciences (10746).

Purpose: Advise NSF on the merit of proposals requesting financial support of research and research-related activities under the purview of the Division of Molecular and Cellular Biosciences.

Name of Committee: Proposal Review Panel for Atmospheric Sciences (10751).

Purpose: Advise NSF on the merit of proposals requesting financial support of research and research-related activities under the purview of the Division of Atmospheric Sciences.

Name of Committee: Proposal Review Panel for Ocean Sciences (10752).

Purpose: Advise NSF on the merit of proposals requesting financial support of research and research-related activities under the purview of the Division of Ocean Sciences.

Name of Committee: Proposal Review Panel for Behavioral and Cognitive Sciences (10747).

Purpose: Advise NSF on the merit of proposals requesting financial support of research and research-related activities under the purview of the Division of Behavioral and Cognitive Sciences.

Name of Committee: Proposal Review Panel for Social and Economic Sciences (10748).

Purpose: Advise NSF on the merit of proposals requesting financial support of research and research-related activities under the purview of the Division of Social and Economic Sciences.

Name of Committee: Proposal Review Panel for International Programs (10749).

Purpose: Advise NSF on the merit of proposals requesting financial support of research and research-related activities under the purview of the Division of International Programs.

Name of Committee: Advisory Panel for Science Resource Studies (10750).

Purpose: Advise NSF on the survey preparation, fielding, and analysis plans and interpretation of survey findings under the purview of the Division of Science Resource Studies.

NSF Contact: Ms. Susanne Bolton, Committee Management Officer, National Science Foundation, 4201 Wilson Boulevard, Suite 315, Arlington, VA 22230, telephone, (703) 292-7488.

Susanne Bolton,
Committee Management Officer.

[FR Doc. 01-14500 Filed 6-7-01; 8:45 am]

BILLING CODE 7555-01-M